DEPARTMENT OF COMMERCE

National Oceanic and Atmospheric Administration

RIN 0648-XL81

Mid-Atlantic Fishery Management Council; Public Meetings

AGENCY: National Marine Fisheries Service (NMFS), National Oceanic and Atmospheric Administration (NOAA), Commerce.

ACTION: Notice of public meetings.

SUMMARY: The Mid-Atlantic Fishery Management Council (Council), its Omnibus Annual Catch Limits/Accountability Measures (ACL/AM) Committee, its Research Set-Aside (RSA) Committee, its Ecosystems and Ocean Planning Committee, its Squid, Mackerel, and Butterfish Committee, its Surfclam/Ocean Quahog Committee, and its Executive Committee will hold public meetings.

DATES: The meetings will be held on Tuesday, December 9, 2008 through Thursday, December 11, 2008. See SUPPLEMENTARY INFORMATION for specific dates and times.

ADDRESSES: The meetings will be held at the Gurney's Inn Resort & Spa, 290 Old Montauk Highway, Montauk, NY 11954; telephone: (631) 668-2345.

Council address: Mid-Atlantic Fishery Management Council, 300 S. New St., Room 2115, Dover, DE 19904; telephone: (302) 674-2331.

FOR FURTHER INFORMATION CONTACT: Daniel T. Furlong, Executive Director, Mid-Atlantic Fishery Management Council; telephone: (302) 674-2331 ext. 19.

SUPPLEMENTARY INFORMATION: On Tuesday, December 9, The Council will convene jointly with the Atlantic States Marine Fisheries Commission's (ASMFC) Summer Flounder, Scup, and Black Sea Bass Board from 8:30 a.m. until 4 p.m. From 4 p.m. until 5:30 p.m., the Council's Omnibus ACL/AM Committee will meet. From 7 p.m. until 8:30 p.m., there will be a RSA presentation. On Wednesday, December 10, concurrent sessions of the RSA Committee and the Ecosystems and Ocean Planning Committee will meet from 8 a.m. until 9:30 a.m. The Council will convene at 9:30 and meet until 12 p.m. From 1 p.m. until 1:15 p.m., there will be an awards presentation. The Squid, Mackerel, and Butterfish Committee will meet from 1:15 p.m. until 3:30 p.m. The Surfclam/Ocean Quahog Committee will meet from 3:30 p.m. until 5:30 p.m. On Thursday, December 11, the Executive Committee will meet from 8 a.m. until 9 a.m. The Council will convene at 9 a.m. and meet until 12 noon.

Agenda items by day for the Council's Committees and the Council itself are:

Tuesday, December 9—The Council will convene jointly with the Atlantic States Marine Fisheries Commission's (ASFMC) Summer Flounder, Scup, and Black Sea Bass Board. They will review and discuss the Monitoring Committee's and Advisory Panel's recommendations on summer flounder, scup, and black sea bass recreational management measures, and develop and approve management measures for the 2009 summer flounder, scup, and black sea bass recreational fisheries. The Omnibus ACL/AM Committee will review Magnuson-Stevens Act (MSA) requirements for ACL/AMs, review the Council's comments on National Standard (NS) 1 proposed rule, review the Council's prior position on ACL/AM approach, and develop a timeline/plan of action to address ACL/AM requirements. An evening presentation/demonstration of an RSA project regarding size and bag limit model for party boats will be presented.

Wednesday, December 10—The RSA Committee will review final reports of recently released closed out RSA awards. The Ecosystems and Ocean Planning Committee will prioritize future Committee activities. The Council will convene to discuss its regular business session to approve October Council minutes, approve actions from the October meeting, and receive various organizational reports. The Council will then review and discuss the Spiny Dogfish Committee's recommendations for the spiny dogfish quota and related management measures for 2009/10 and beyond fishing years and adopt quota and related management measures for 2009/10 and beyond fishing years. The Fisheries Achievement Award and the Ricks E Savage Award will be presented. The Squid, Mackerel, and Butterfish Committee will review and clarify Amendment 11 management alternatives, to include a mackerel limited entry program, essential fish habitat (EFH) designations, at-sea processing issues, and ACL/AMs. The Surfclam/Ocean Quahog Committee will review market power analyses for the excessive shares issue and discuss Fishery Management Plan (FMP) objectives and need for changes.

Thursday, December 11—The Executive Committee will report on the October Northeast Region Coordinating Council (NRCC) meeting and address Scientific and Statistical Committee (SSC) membership process and logistics/mechanics of using the SSC to provide advice to the Council. The Council will receive a presentation by Robert Brock of the National Marine Fisheries Service (NMFS) on its Research and Management Plan for Deep Sea Corals and Sponges. The Council will have a brief discussion regarding the April 2008 Council intent for Tilefish Gear Restricted Areas. The Council will hear Committee reports and discuss any continuing and new business.

Although non-emergency issues not contained in this agenda may come before the Council for discussion, these issues may not be the subject of formal Council action during theses meetings. Council action will be restricted to those issues specifically listed in this notice and any issues arising after publication of this notice that require emergency action under Section 305(c) of the Magnuson-Stevens Act, provided the public has been notified of the Council's intent to take final actions to address such emergencies.

Special Accommodations

These meetings are physically accessible to people with disabilities. Requests for sign language interpretation or other auxiliary aid should be directed to M. Jan Bryan, (302) 674-2331 ext 18, at least 5 days prior to the meeting date.

Dated: November 13, 2008.
Tracey L. Thompson,
Acting Director, Office of Sustainable Fisheries, National Marine Fisheries Service.

[FR Doc. E8-27353 Filed 11-18-08; 8:45 am]

BILLING CODE 3510-22-S